FEDERAL COMMUNICATIONS COMMISSION

[CC Docket No. 01-9; FCC 01-130]

Application by Verizon New England Inc., Bell Atlantic Communications, Inc. (d/b/a Verizon Long Distance), NYNEX Long Distance Company (d/b/a Verizon Enterprise Solutions) and Verizon Global Networks Inc., Pursuant to Section 271 of the Telecommunications Act of 1996, for Authorization To Provide In-Region InterLATA Services in the State of Massachusetts

AGENCY: Federal Communications Commission.

ACTION: Notice.

SUMMARY: In this document the Federal Communications Commission grants the section 271 application of Verizon New England Inc., et al. (Verizon) for authority to enter the interLATA telecommunications market in the state of Massachusetts. The Commission grants Verizon's application based on our conclusion that Verizon has satisfied all of the statutory requirements for entry, and opened its local exchange markets to full competition.

DATES: Effective May 3, 2001.

FOR FURTHER INFORMATION CONTACT: Eric Einhorn, Attorney-Advisor, Policy and Program Planning Division, Common Carrier Bureau, (202) 418-1580, or via the Internet at eeinhorn@fcc.gov.

SUPPLEMENTARY INFORMATION: This is a summary of the Commission's Memorandum Opinion and Order in CC Docket No. 01-9 released April 16, 2001. The complete text of this document is available for inspection and copying during normal business hours in the FCC Reference Information Center, Courtyard Level, 445 12th Street, SW., Washington, DC, and also may be purchased from the Commission's copy contractor, International Transcription Services (ITS, Inc.), CY-B400, 445 12th Street, SW., Washington, DC. It is also available on the Commission's website at http://www.fcc.gov/ccb/ppp/2001ord.html.

Synopsis of the Order

1. History of the Application. On January 16, 2001, Verizon filed an application (Massachusetts II Application), pursuant to section 271 of the Communications Act of 1996, with the Commission to provide in-region, interLATA service in the state of Massachusetts. The Massachusetts II Application incorporated by reference the record that developed in an earlier proceeding evaluating Verizon's first Massachusetts application (Massachusetts I Application), which was filed on September 22, 2000, and withdrawn on December 18, 2000.

2. The State Commission's Evaluation. The Massachusetts Department of Telecommunications and Energy (Massachusetts Department) advised the Commission, following sixteen months of extensive review, that Verizon met the checklist requirements of section 271(c) and has taken the statutorily required steps to open its local markets to competition. Consequently, the Massachusetts Department recommended that the Commission approve Verizon's in-region, interLATA entry in both its October 16, 2000 evaluation of the Massachusetts I Application, and its February 6, 2001 evaluation of the Massachusetts II Application.

3. The Department of Justice's Evaluation. The Department of Justice (DOJ) filed its evaluation of Verizon's Massachusetts I Application on October 27, 2000. It recommended that the Commission not approve the application until Verizon had demonstrated that it provides nondiscriminatory access to and suitable performance measures regarding DSL loops. The DOJ submitted an evaluation of Verizon's Massachusetts II Application on February 21, 2001. It stated that although “a number of changes have taken place” since its evaluation of the Massachusetts I Application, it still could not find at that stage of the proceeding that Verizon had adequately demonstrated its ability to provide nondiscriminatory access to DSL loops. Recognizing that its evaluation reflected only the evidence in the record at the time, however, the DOJ urged the Commission to consider the full record in its final determination.

Primary Issues in Dispute

Checklist Item 2—Unbundled Network Elements

4. Pricing of Network Elements. The Commission finds that Verizon's charges for UNEs made available in Massachusetts to other telecommunications carriers are just, reasonable, and nondiscriminatory in compliance with checklist item 2. Verizon relies on switching, transport, and signaling rates equivalent to those currently in place in New York. The Commission finds that Verizon's voluntarily-adopted rates that are equivalent to those currently in place in New York provide competitive LECs with rates that are within a reasonable TELRIC (total element long-run incremental costs) range. As the Commission noted in the SWBT Kansas/Oklahoma Order (66 FR 8596, February 1, 2001), under appropriate circumstances, a BOC's UNE rates will be entitled to a presumption of TELRIC compliance if they are adopted in whole from another state whose rates have been found to comply with TELRIC, and if costs are demonstrated to be at or above the costs in the state whose rates were adopted. The Commission finds that Verizon's Massachusetts rates meet the TELRIC-presumption test set forth in the SWBT Kansas/Oklahoma Order. Additionally, the Commission finds the Massachusetts loop rates to be within the range that the reasonable application of TELRIC principles would produce.

5. Access to Operations Support Systems (OSS). The Commission concludes that Verizon provides nondiscriminatory access to its operations support systems (OSS). Verizon demonstrates that its pre-ordering systems permit competing carriers to build and use application-to-application interfaces and integrate pre-ordering and ordering interfaces. The interfaces are consistently available and provide reasonably prompt response times. The Commission also finds that Verizon offers nondiscriminatory access to the OSS functions associated with determining whether a loop can support DSL. With respect to Verizon's ordering OSS, the Commission finds that Verizon's OSS provides timely confirmation notices, rejection notices, completion notices, and jeopardy information. The Commission also finds that Verizon's OSS are capable of achieving high overall levels of flow-through. Regarding provisioning, the Commission concludes that Verizon provisions competing carriers' resale and UNE-P orders in substantially the same time and manner as it provisions orders for its own retail customers. With respect to maintenance and repair, the Commission finds that Verizon offers requesting carriers access to the same functions that are available to Verizon's retail representatives, and that it provides nondiscriminatory access to the maintenance and repair systems and processes. With respect to billing, Verizon demonstrates that it provides timely and accurate usage information to competing carriers, as well as wholesale bills in a manner that affords competing carriers a meaningful opportunity to compete. Finally, the Commission concludes that Verizon has a sufficient process in place for handling changes to its OSS, that competing carriers have input in this process, and that Verizon adheres to it over time. Verizon also provides the documentation and help desk support that competitors need to build interfaces and make full use of the OSS Verizon provides to them.

6. UNE Combinations. The Commission concludes that Verizon provides nondiscriminatory access to combinations of UNEs. The record indicates first that Verizon provides access to UNE combinations, and also that it provides access to UNEs in a manner that allows requesting carriers to combine those elements. The Commission bases its conclusion on evidence of actual commercial usage, and also on Verizon's legal obligation to provide such access as established in its tariff and interconnection agreements.

7. Checklist Item 4—Unbundled Local Loops. Verizon has adequately demonstrated that it provides unbundled local loops as required by section 271. More specifically, Verizon establishes that it provides access to loop make-up information in compliance with the UNE Remand Order and nondiscriminatory access to stand alone xDSL-capable loops and high-capacity loops. Also, Verizon provides voice grade loops, both as new loops and through hot-cut conversions, in a nondiscriminatory manner. Finally, Verizon has demonstrated that it has a line-sharing and line-splitting provisioning process that affords competitors nondiscriminatory access to these facilities.

8. In the Commission's overview of Verizon's performance data, it relies on Massachusetts performance data collected and submitted by Verizon under the state-adopted carrier-to-carrier standards. Verizon provides evidence and performance data establishing that it can efficiently furnish unbundled loops, for the provision of both traditional voice services and various advanced services, to other carriers in a nondiscriminatory manner. Verizon also establishes that it provides competing services with voice grade unbundled loops through new stand-alone loops and hot-cuts in substantially the same time and manner compared to its retail affiliates.

9. The Commission also finds that Verizon provides nondiscriminatory access to the high-frequency portion of the loop and it makes it possible for competing carriers to provide voice and data service over a single loop (“line splitting”). Moreover, Verizon demonstrates that it provides maintenance and repair functions, for both line-shared and stand-alone xDSL-capable and voice-grade loops, for competing carriers in substantially the same time and manner as Verizon does for its own retail services.

Other Checklist Items

10. Checklist Item 1—Interconnection. Based on the evidence in the record, the Commission concludes that Verizon demonstrates that it provides interconnection in accordance with the requirements of section 251(c)(2) and as specified in section 271 and applied in the Commission's prior orders. Pursuant to this checklist item, Verizon must allow other carriers to interconnect their networks to its network for the mutual exchange of traffic, using any available method of interconnection at any available point in Verizon's network. The Commission finds that Verizon makes interconnection available at any technically feasible point, including the option interconnect at only one technically feasible point within a LATA.

11. Verizon demonstrates that its collocation offerings in Massachusetts satisfy the requirements of sections 251 and 271 of the Act. Verizon provides physical and virtual collocation through state-approved tariffs. Verizon's Massachusetts physical and virtual collocation tariffs are virtually identical to the New York physical and virtual collocation tariffs, which we found to satisfy checklist item 1 in our Bell Atlantic New York Order. Verizon demonstrates that it offers interconnection in Massachusetts to other telecommunications carriers at just, reasonable, and nondiscriminatory rates, in compliance with checklist item 1.

12. Checklist Item 3—Poles, Ducts, Conduits and Rights of Way. Based on the evidence in the record, the Commission concludes, as the Massachusetts Department does, that Verizon demonstrates that it provides nondiscriminatory access to its poles, ducts, conduits, and rights-of-way at just and reasonable rates in accordance with section 271(c)(2)(B)(iii). The Commission rejects commenters' requests to find Verizon's policies and practices nondiscriminatory, because section 224(c)(1) gives Massachusetts jurisdiction over such matters.

13. Checklist Item 5—Unbundled Local Transport. Section 271(c)(2)(B)(v) of the competitive checklist requires a BOC to provide “local transport from the trunk side of a wireline local exchange carrier switch unbundled from switching or other services.” The Commission concludes, based upon the evidence in the record, that Verizon demonstrates that it provides both shared and dedicated transport in compliance with the requirements of checklist item 5.

14. Checklist Item 13—Reciprocal Compensation. Based on the evidence in the record, the Commission concludes that Verizon demonstrates that it has entered into reciprocal compensation arrangements in accordance with the requirements of section 252(d)(2) and is making all required payments in a timely fashion. Verizon thus satisfies the requirements of checklist item 13.

15. Checklist Item 14—Resale. Based on the evidence in the record, we conclude that Verizon demonstrates that it makes telecommunications services available in Massachusetts for resale in accordance with sections 251(c)(4) and 252(d)(3), and thus satisfies the requirements for checklist item 14. The Commission rejects commenters' assertions that Verizon should fail this item because its advanced services affiliate was not offering advanced services at resale discounts in accordance with ASCENT v. FCC, because the mandate in that decision had not been issued when Verizon filed its Massachusetts II Application.

16. Checklist Items 6-12. An applicant under section 271 must demonstrate that it complies with checklist item 6 (unbundled local switching), item 7 (911/E911 access and directory assistance/operator services), item 8 (white page directory listings), item 9 (numbering administration), item 10 (databases and associated signaling), item 11 (number portability), and item 12 (local dialing parity). Based on the evidence in the record, and in accordance with Commission rules and orders concerning compliance with section 271 of the Act, the Commission concludes that Verizon demonstrates that it is in compliance with checklist items 6, 7, 8, 9, 10, 11 and 12 in Massachusetts. The Massachusetts Department also concludes that Verizon complies with the requirements of each of these checklist items.

17. Compliance with Section 271(c)(1)(A). The Commission concludes that Verizon demonstrates that it satisfies the requirements of section 271(c)(1)(A) based on the interconnection agreements it has implemented with competing carriers in Massachusetts. The record demonstrates that competing LECs serve a sufficient number of business and residential customers using predominantly their own facilities. The Massachusetts Department likewise concluded that Verizon satisfies the requirements of section 271(c)(1)(A).

18. Section 272 Compliance. Verizon has demonstrated that it complies with the requirements of section 272. Significantly, Verizon provides evidence that it maintains the same structural separation and nondiscrimination safeguards in Massachusetts as it does in New York, a state in which Verizon has already received section 271 authority.

19. Public Interest Analysis. The Commission concludes that approval of this application is consistent with the public interest. It views the public interest requirement as an opportunity to review the circumstances presented by the applications to ensure that no other relevant factors exist that would frustrate the congressional intent that markets be open, as required by the competitive checklist, and that entry will therefore serve the public interest as Congress expected. While no one factor is dispositive in this analysis, the Commission's overriding goal is to ensure that nothing undermines its conclusion that markets are open to competition.

20. Among other factors, the Commission may review the local and long distance markets to ensure that there are not unusual circumstances that would make entry contrary to the public interest under the particular circumstances of this Application. The Commission finds that, consistent with its extensive review of the competitive checklist, barriers to competitive entry in the local market have been removed and the local exchange market today is open to competition. The Commission also finds that the record confirms our view that a BOC's entry into the long distance market will benefit consumers and competition if the relevant local exchange market is open to competition consistent with the competitive checklist.

21. The Commission also finds that the performance monitoring and enforcement mechanisms developed in Massachusetts, in combination with other factors, provide meaningful assurance that Verizon will continue to satisfy the requirements of section 271 after entering the long distance market.

22. Section 271(d)(6) Enforcement Authority. Working with the Massachusetts Department, the Commission intends to monitor closely post-entry compliance and to enforce the provisions of section 271 using the various enforcement tools Congress provided us in the Communications Act.

Federal Communications Commission.
Magalie Roman Salas,
Secretary.

[FR Doc. 01-10090 Filed 4-19-01; 1:14 pm]

BILLING CODE 6712-01-P